DEPARTMENT OF STATE

[Public Notice: 10293]

U.S. Department of State Advisory Committee on Private International Law (ACPIL): Public Meeting on Online Dispute Resolution

The Office of the Assistant Legal Adviser for Private International Law, Department of State, hereby gives notice that the APCIL will hold a public meeting via teleconference to discuss a pending proposal on online dispute resolution (ODR) in the Asia Pacific Economic Cooperation forum (APEC). This is not a meeting of the full Advisory Committee.

In February 2017, the APEC Economic Committee endorsed a work plan on development of an APEC-wide cooperative framework for ODR for Micro, Small, and Medium Sized Enterprises (MSMEs) in business-to-business (B2B) transactions, which is currently co-sponsored by thirteen member economies (namely, Australia, Chile, Canada, Hong Kong, China, Indonesia, Japan, Mexico, New Zealand, Papua New Guinea, Peru, Russia, Chinese Taipei and the United States).

MSMEs have gained unprecedented access to international trade via the global supply chain and cross-border e-commerce, but to effectively reach global markets these businesses need a legal environment which enables the quick resolution of disputes and creates confidence in cross-border e-commerce. The use of ODR could be an effective means to solve this problem. ODR is a way of resolving disputes using traditional methods such as negotiation, mediation, and arbitration, but with the help of technology and without the need for a physical presence at a meeting or hearing.

At its most recent meeting in August 2017, the APEC Economic Committee endorsed a revised work plan on ODR that includes calls to inter alia “build a pilot in conjunction with platform host/ODR provider via outreach to regional arbitration/mediation centers to determine possible partners for hosting ODR platform.” Additionally, the scope of the project was expanded to include “Use of Modern Technology for Dispute Resolution and Electronic Agreement Management” with the explanation that “it is also worthwhile to explore the use of other modern technology such as block chain, automated or smart contracts for contract management or enforcement and prevention of disputes.” The APEC Economic Committee has approved a two-day workshop for the first Economic Committee meeting next February to discuss the work plan and the pilot proposal.

This conference call will be a continuation of the conference call meeting that was held on November 1, 2017.

Time and Place: The ACPIL meeting will take place on Thursday, February 15, 2018 from 10 a.m. to 1:00 p.m. EST via teleconference.

Public Participation: Those planning to participate should email pil@state.gov to obtain the call-in number.

Michael J. Dennis,
Attorney-Adviser, Office of Private International Law, Office of the Legal Adviser, Department of State.

[FR Doc. 2018-02174 Filed 2-2-18; 8:45 am]

BILLING CODE 7410-08-P